DEPARTMENT OF TRANSPORTATION

Federal Aviation Administration

14 CFR Part 97

[Docket No. 30647 Amdt. No 3304]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective February 23, 2009. The compliance date for each SIAP, associated Takeoff Minimums, and ODP is specified in the amendatory provisions.

The incorporation by reference of certain publications listed in the regulations is approved by the Director of the Federal Register as of February 23, 2009.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125), Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979) ; and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on January 9, 2009.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 12 FEB 2009

Jacksonville, FL, Craig Muni, RNAV (GPS) RWY 32, Orig-A

* * * Effective 12 MAR 2009

Little Rock, AR, Adams Field, RNAV (GPS) RWY 4L, Amdt 1

Little Rock, AR, Adams Field, RNAV (GPS) RWY 4R, Amdt 1

Little Rock, AR, Adams Field, RNAV (GPS) RWY 22L, Amdt 1

Little Rock, AR, Adams Field, RNAV (GPS) RWY 22R, Amdt 1

Osceola, AR, Osceola Muni, RNAV (GPS) RWY 19, Orig

Warren, AR, Warren Muni, GPS RWY 21, Orig-B, CANCELLED

Warren, AR, Warren Muni, NDB OR GPS RWY 3, Amdt 1B, CANCELLED

Warren, AR, Warren Muni, RNAV (GPS) RWY 3, Orig

Warren, AR, Warren Muni, RNAV (GPS) RWY 21, Orig

Warren, AR, Warren Muni, VOR/DME-A, Amdt 5

Sebring, FL, Sebring Regional, GPS RWY 36, Orig-A, CANCELLED

Sebring, FL, Sebring Regional, RNAV (GPS) Y RWY 36, Orig

Sebring, FL, Sebring Regional, RNAV (GPS) Z RWY 36, Orig

Vero Beach, FL, Vero Beach Muni, RNAV (GPS) RWY 4, Orig

Vero Beach, FL, Vero Beach Muni, RNAV (GPS) RWY 11R, Amdt 1

Vero Beach, FL, Vero Beach Muni, RNAV (GPS) RWY 22, Orig

Vero Beach, FL, Vero Beach Muni, RNAV (GPS) RWY 29L, Amdt 1

Atlanta, GA, Fulton County Arpt-Brown Field, NDB RWY 8, Amdt 3

Augusta, GA, Augusta Rgnl at Bush Field, Takeoff Minimums and Obstacle DP, Amdt 13

Indianapolis, IN, Indianapolis Intl, RNAV (RNP) Z RWY 5L, Orig-A

Indianapolis, IN, Indianapolis Intl, RNAV (RNP) Z RWY 23R, Orig-A

Natchitoches, LA, Natchitoches Rgnl, RNAV (GPS) RWY 17, Orig

Natchitoches, LA, Natchitoches Rgnl, RNAV (GPS) RWY 35, Orig

Natchitoches, LA, Natchitoches Rgnl, Takeoff Minimums and Obstacle DP, Amdt 6

Rayville, LA, John H Hooks Jr Memorial, RNAV (GPS) RWY 18, Orig

Rayville, LA, John H Hooks Jr Memorial, RNAV (GPS) RWY 36, Amdt 1

Rayville, LA, John H Hooks Jr Memorial, Takeoff Minimums and Obstacle DP, Orig

Norwood, MA, Norwood Memorial, Takeoff Minimums and Obstacle DP, Amdt 5

Fryeburg, ME, Eastern Slopes Regional, NDB-B, Amdt 2

Greenville, ME, Greenville Muni, NDB RWY 14, Amdt 5

Greenville, ME, Greenville SPB, NDB-A, Amdt 5

Greenville, ME, Greenville SPB, RNAV (GPS)-B, Orig

Romeo, MI, Romeo State, GPS RWY 36, Orig-A, CANCELLED

Romeo, MI, Romeo State, RNAV (GPS) RWY 18, Orig

Romeo, MI, Romeo State, RNAV (GPS) RWY 36, Orig

Romeo, MI, Romeo State, VOR/DME-A, Amdt 8

Glencoe, MN, Glencoe Muni, RNAV (GPS) RWY 31, Orig

Glencoe, MN, Glencoe Muni, Takeoff Minimums and Obstacle DP, Orig

South St Paul, MN, South St Paul Muni-Richard E Fleming Fld, GPS RWY 34, Orig, CANCELLED

South St Paul, MN, South St Paul Muni-Richard E Fleming Fld, RNAV (GPS) RWY 34, Orig

Greenville, MS, Mid Delta Rgnl, GPS RWY 18L, Orig, CANCELLED

Greenville, MS, Mid Delta Rgnl, GPS RWY 18R, Orig, CANCELLED

Greenville, MS, Mid Delta Rgnl, GPS RWY 36R, Orig, CANCELLED

Greenville, MS, Mid Delta Rgnl, RNAV (GPS) RWY 18L, Orig

Greenville, MS, Mid Delta Rgnl, RNAV (GPS) RWY 18R, Orig

Greenville, MS, Mid Delta Rgnl, RNAV (GPS) RWY 36R, Orig

Fostoria, OH, Fostoria Metropolitan, NDB RWY 27, Amdt 5

Fostoria, OH, Fostoria Metropolitan, RNAV (GPS) RWY 27, Orig

Fostoria, OH, Fostoria Metropolitan, Takeoff Minimums and Obstacle DP, Orig

Fostoria, OH, Fostoria Metropolitan, VOR-A, Amdt 4

Waverly, OH, Pike County, GPS RWY 7, Orig-B, CANCELLED

Waverly, OH, Pike County, GPS RWY 25, Orig-A, CANCELLED

Waverly, OH, Pike County, RNAV (GPS) RWY 7, Orig

Waverly, OH, Pike County, RNAV (GPS) RWY 25, Orig

Honesdale, PA, Cherry Ridge, RNAV (GPS) RWY 36, Orig, CANCELLED

Honesdale, PA, Cherry Ridge, RNAV (GPS)-B, Orig

Atlanta, TX, Hall Miller Muni, RNAV (GPS) RWY 5, Amdt 1

[FR Doc. E9-3047 Filed 2-20-09; 8:45 am]

BILLING CODE 4910-13-P